DEPARTMENT OF VETERANS AFFAIRS

[OMB Control No. 2900-0160]

Agency Information Collection Activity: State Home Programs for Veterans

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 21, 2023.

ADDRESSES: Submit written comments on the collection of information through Federal Docket Management System (FDMS) at www.Regulations.gov or to Grant Bennett, Office of Regulations, Appeals, and Policy (10BRAP), Department of Veterans Affairs, 810 Vermont Avenue NW, Washington, DC 20420 or email to Grant.Bennett@va.gov. Please refer to “OMB Control No. 2900-0160” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0160” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: State Home Programs for Veterans (VA Forms 10-5588, 10-5588A, and 10-10SH).

OMB Control Number: 2900-0160.

Type of Review: Revision of a currently approved collection.

Abstract: Authority for this information collection can be found in two public laws affecting State homes: Public Law 115-159, the State Veterans Home Adult Day Health Care Improvement Act of 2017, which requires VA to pay State Veteran Homes (SVHs) for medical model adult day health care provided to certain eligible Veterans; and Public Law 116-315, Section 3007, Waiver of Requirements of Department of Veterans Affairs for Receipt of Per Diem Payments for Domiciliary Care at State Homes and Modification of Eligibility for such Payments. This information collection also enables the payment of per diem to State homes that provide care to eligible Veterans in accordance with Title 38 CFR part 51. The intended effect of these provisions is to create a safeguard that Veterans are receiving a high quality of care in SVHs.

To ensure that high quality care is furnished to Veterans, VA requires those facilities providing nursing home care, domiciliary care, and adult day health care programs to Veterans to supply various kinds of information. The information required includes an application and justification for payment; records and reports that facility management must maintain regarding payment activities of residents or participants; and records and reports that facilities management and health care professionals must maintain regarding eligible residents or participants. The following three forms are included in this information collection:

a. VA Form 10-5588: State Home Report and Statement of Federal Aid Claimed—38 CFR 51, 52 and title 38, U.S.C., sections 1741, 1742, 1743 and 1745—is used to assess and provide per diem to State homes. This collection instrument is used by the State home employees and VA Staff.

b. VA Form 10-5588A: Claim for Increased Per Diem Payment for Veterans Awarded Retroactive Service Connection—38 CFR 51, 52 and title 38, U.S.C. 1741, 1742, 1743 and 1745—is used to assess and provide per diem to State homes retroactively. This collection instrument is used by the State home employees and VA Staff.

c. VA Form 10-10SH: State Home Program Application for Veterans Care Medical Certification—38 CFR 51, 52 and title 38, U.S.C. 1741, 1742, 1743 and 1745—provides for the collection of information to apply for the benefits of this program.

The State Home Per Diem (SHPD) Program recently automated the 10-10SH form. The form was converted into a web-based, fillable form that can be electronically submitted from the SVH to the appropriate VAMC. It includes data field validation, assuring that all required fields have been filled before the user can electronically submit the 10-10SH form. The VA portion of the application also includes business rules to assist the VA representatives in making uniform determinations, allow the VA representative to return incomplete applications to the SVH along with a notification to them, and record receipt of the completed application.

Total Annual Burden: 4,816 hours.

Total Annual Responses: 13,614.

VA Form 10-5588

Affected Public: State, Local, and Tribal Governments.

Estimated Annual Burden: 834 hours.

Estimated Average Burden Per Respondent: 30 minutes.

Frequency of Response: Monthly.

Estimated Number of Respondents: 139.

VA Form 10-5588A

Affected Public: State, Local, and Tribal Governments.

Estimated Annual Burden: 180 hours.

Estimated Average Burden Per Respondent: 20 minutes.

Frequency of Response: Monthly.

Estimated Number of Respondents: 45.

VA Form 10-10SH

Affected Public: State, Local, and Tribal Governments.

Estimated Annual Burden: 3,802 hours.

Estimated Average Burden Per Respondent: 20 minutes.

Frequency of Response: Once annually.

Estimated Number of Respondents: 11,406.

By direction of the Secretary.
Maribel Aponte,
VA PRA Clearance Officer, Office of Enterprise and Integration/Data Governance Analytics, Department of Veterans Affairs.

[FR Doc. 2023-13159 Filed 6-20-23; 8:45 am]

BILLING CODE 8320-01-P